DEPARTMENT OF HEALTH AND HUMAN SERVICES

Food and Drug Administration

[Docket No. 2005N-0218]

Vision 2006—A Conversation With the American Public; Notice of Public Meetings on Specific Food and Drug Administration Issues; Notice of Cancellation of Meetings

AGENCY: Food and Drug Administration, HHS.

ACTION: Notice.

SUMMARY: The Food and Drug Administration (FDA) is canceling a series of three public meetings entitled “Vision 2006—A Conversation With the American Public.” These meetings were to be a forum where consumers could interact directly with FDA's leadership to discuss issues of public interest. These meetings were announced in the Federal Register of August 16, 2005 (70 FR 48160).

FOR FURTHER INFORMATION CONTACT: Philip L. Chao, Food and Drug Administration (HF-23), 5600 Fishers Lane, Rockville, MD 20857, 301-827-0587, FAX: 301-827-4774, e-mail: philip.chao@fda.hhs.gov.

SUPPLEMENTARY INFORMATION: In the Federal Register of August 16, 2005, we announced a series of public meetings entitled “Vision 2006—A Conversation with the American Public.” These meetings were to be held in three cities (Miami, FL; Boston, MA; and Phoenix, AZ), and they were to be an open forum where consumers could interact with FDA's leadership. The meetings were also to be an opportunity for us to update the public on current agency programs, engage the public in discussions, and obtain consumer input on specific issues.

We initially scheduled the meetings to occur on the following dates: September 13, 2005, in Miami, FL; November 2, 2005, in Boston, MA; and on November 30, 2005, in Phoenix, AZ. However, due to our need to focus on relief efforts associated with Hurricane Katrina, we postponed the Miami, FL meeting indefinitely (70 FR 53798, September 12, 2005).

Through this notice, we regret to announce that we are canceling all three meetings at this time. Additionally, we will contact individuals who had registered for these meetings to inform them about the cancellation.

Dated: September 29, 2005.
Jeffrey Shuren,
Assistant Commissioner for Policy.

[FR Doc. 05-19956 Filed 10-4-05; 8:45 am]

BILLING CODE 4160-01-S